ENVIRONMENTAL PROTECTION AGENCY

[EPA-HQ-OCFO-2024-0107; FRL-11791-01-OCFO]

Agency Information Collection Activities; Proposed Information Collection Request; Comment Request; General Performance Reporting for Assistance Programs

AGENCY: Environmental Protection Agency (EPA).

ACTION: Notice.

SUMMARY: The Environmental Protection Agency (EPA) is planning to submit an information collection request (ICR), General Performance Reporting for Assistance Programs (EPA ICR Number 2802.01, OMB Control Number 2090-NEW) to the Office of Management and Budget (OMB) for review and approval in accordance with the Paperwork Reduction Act (PRA). Before doing so, EPA is soliciting public comments on specific aspects of the proposed information collection as described below. This is a request for approval of a new collection. This document allows 60 days for public comments.

DATES: Comments must be submitted on or before May 6, 2024.

ADDRESSES: Submit your comments, referencing Docket ID Number EPA-HQ-OCFO-2024-0107, to EPA online using https://www.regulations.gov (our preferred method), by email to Docket_OCFO@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Aarti Iyer, Office of the Chief Financial Officer, Environmental Protection Agency, 1200 Pennsylvania Ave. NW, Washington, DC 20460; email address: iyer.aarti@epa.gov; telephone number: 202-564-0214.

SUPPLEMENTARY INFORMATION: This is a request for approval of a new collection. An agency may not conduct or sponsor and a person is not required to respond to a collection of information unless it displays a currently valid OMB control number.

This document allows 60 days for public comments. Supporting documents, which explain in detail the information that the EPA will be collecting, are available in the public docket for this ICR. The docket can be viewed online at https://www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register document to announce the submission of the ICR to OMB and the opportunity to submit additional comments to OMB.

Abstract: The U.S. Environmental Protection Agency (EPA) awards billions in funding for grants and other financial assistance agreements, with recipients ranging from small non-profit organizations to large state governments. With this Information Collection Request (ICR), EPA seeks authorization to collect information to track progress made by the Agency's financial assistance programs. Collection of this information enables EPA to assess and manage its financial assistance programs, which in turn ensures responsible stewardship of public funds; rigorous evidence-based learning and improvement; and transparent accountability to the American public. The information requested under this ICR will be collected via performance report forms submitted by recipients of financial assistance awards, which document their planned and actual milestones, resources, activities, partners, timelines, locations, audiences, outputs, and outcomes. These forms include work plans, quality assurance documents, interim progress reports, and final progress reports.

Form numbers: None.

Respondents/affected entities: Recipients of financial assistance awards from EPA.

Respondent's obligation to respond: Mandatory for grant recipients as per reporting requirements included in EPA regulations 2 CFR parts 200 and 1500.

Estimated number of respondents: Approximately 5,000.

Frequency of response: One work plan, one set of quality assurance documents, variable numbers of interim progress reports, one final progress report.

Total estimated burden: 74,500 hours per year.

Total estimated cost: $4,864,105 per year.

Katherine Dawes,
EPA Evaluation Officer, Office of the Chief Financial Officer.

[FR Doc. 2024-04875 Filed 3-6-24; 8:45 am]

BILLING CODE 6560-50-P